DEPARTMENT OF THE INTERIOR

Fish and Wildlife Service

Bear Butte National Wildlife Refuge

AGENCY: Fish and Wildlife Service, Interior.

ACTION: Notice of availability of draft comprehensive conservation plan; request for comments.

SUMMARY: The U.S. Fish and Wildlife Service (Service) announces that a combined Draft Comprehensive Conservation Plan (CCP) and Environmental Assessment (EA) for Bear Butte National Wildlife Refuge (Refuge) is available. This CCP describes how the Service intends to manage the Refuge for the next 15 years.

DATES: Written comments must be received at the postal or electronic address listed below on or before April 9, 2007.

ADDRESSES: A copy of the document may be obtained by writing to Linda Kelly, Planning Team Leader, U.S. Fish and Wildlife Service, Division of Refuge Planning, Box 25486, Denver, Colorado 80225-0486; or electronically to linda_kelly@fws.gov; or downloaded from http://mountain-prairie.fws.gov/planning. Please provide written comments to Ms. Kelly at the address above.

FOR FURTHER INFORMATION CONTACT: Linda Kelly at 303-236-8132; fax: 303-236-4792; or e-mail: linda_kelly@fws.gov.

SUPPLEMENTARY INFORMATION: This Refuge was established as a Limited-interest Refuge in the late 1930s with the acquisition of easements from private landowners, the State of South Dakota (State) and the War Department (now transferred to the Bureau of Land Management at Fort Meade), to maintain an area for “migratory bird, wildlife conservation, and other purposes.” The Refuge is 374.20 acres and has no fee title. The easement obtained from the State only applies to lands below the ordinary high-water mark of the lake. A cooperative agreement was entered into with the State on July 12, 1967, to administer, operate and maintain the Refuge pursuant to the rights and interest in real property acquired by the United States, and more particularly described in the easement agreements.

Under the No Action Alternative, the Service would continue to manage the Refuge within the parameters of the cooperative agreement with South Dakota Game, Fish and Parks. Existing habitat within the easement and all public programs would continue to be administered and maintained by the State. Current habitat and wildlife management practices would be carried out by State Game, Fish, and Parks personnel, and levels of public use would remain the same. The facilities and activities (hiking, picnicking, designated camping, fishing and a horse camp) would remain the same.

Alternative B (Proposed Action) would relinquish the easements to the current landowners. This alternative would take the Refuge out of the Refuge System and transfer the easements to current landowners. Under this alternative, the habitat, public use, cultural resources and operations would be managed by the landowners. The Service's easement requirements would no longer exist. The Service would divest its interest in the Refuge. This would be carried out within the 15-year life of the plan. Once the CCP is approved, the managing station would work with the Division of Realty and the Division of Planning, Land Protection Planning Branch, to prepare a combined program proposal to divest this Refuge. The proposal would be submitted to the Migratory Bird Conservation Commission for concurrence and then submitted for congressional approval.

The Proposed Action was selected because it best meets the purposes and goals of the Refuge, as well as the goals of the National Wildlife Refuge System.

Dated: June 8, 2006.
Elliott Sutta,
Acting Regional Director, Region 6, Denver, CO.

Editorial Note: This document was received at the Office of the Federal Register on February 2, 2007.

[FR Doc. E7-1988 Filed 2-7-07; 8:45 am]

BILLING CODE 4310-55-P